DEPARTMENT OF HOMELAND SECURITY

Transportation Security Administration

Reports, Forms, and Record Keeping Requirements: Agency Information Collection Activity Under OMB Review; Airport Access Control Pilot Program (AACPP); Satisfaction and Effectiveness Measurement Data Collection Instruments

AGENCY: Transportation Security Administration (TSA), DHS.

ACTION: Notice of emergency clearance request.

SUMMARY: The U.S. Department of Homeland Security, Transportation Security Administration, has submitted a request for emergency processing of a new information collection to the Office of Management and Budget (OMB) for review and immediate clearance by June 1, 2004, under the Paperwork Reduction Act of 1995 (Pub. L. 104-13, 44 U.S.C. 35). This notice announces that the Information Collection Request (ICR) abstracted below has been forwarded to OMB for review and comment. The ICR describes the nature of the information collection and its expected burden.

DATES: Send your comments by June 25, 2004. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Conrad Huygen, Privacy Act Officer, Information Management Programs, Office of Finance and Administration, TSA-17, 601 South 12th Street, Arlington, Virginia 22202-4220; telephone (571) 227-1954; facsimile (571) 227-2906.

SUPPLEMENTARY INFORMATION:

Transportation Security Administration (TSA)

Title: Airport Access Control Pilot Program (AACPP); Satisfaction and Effectiveness Measurement Data Collection Instruments.

Type of Request: Emergency processing request of a new collection.

OMB Control Number: Not yet assigned.

Form(s): Enrollment and satisfaction surveys.

Affected Public: Participants in AACPP and lead stakeholders.

Abstract: TSA intends to test and evaluate certain new and emerging biometric and other technologies during the Airport Access Control Pilot Program (AACPP). TSA will gather biometric information, demographic information, and airport user identification from a select group of participants at 20 locations to test the use of emerging technologies for airport access control and then evaluate those technologies using two satisfaction instruments. The first instrument will be a survey given to a representative sample of airport users and the second instrument will be an interview conducted with the lead stakeholder at each site and a small percentage of persons participating in the project. Surveys and interviews will be voluntary and anonymous.

Number of Respondents: 2,620.

Estimated Annual Burden Hours: 780.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on May 20, 2004.
Susan T. Tracey,
Chief Administrative Officer.

[FR Doc. 04-11892 Filed 5-25-04; 8:45 am]

BILLING CODE 4910-62-P